ENVIRONMENTAL PROTECTION AGENCY

[EPA-HQ-OPP-2007-1011; FRL-8367-2]

Product Cancellation Order for Pesticide Products Containing Denatonium Benzoate as an Active Ingredient

AGENCY: Environmental Protection Agency (EPA).

ACTION: Order.

SUMMARY: EPA is granting a registrant's voluntary request for cancellation, pursuant to section 6(f)(1) of the Federal Insecticide, Fungicide, and Rodenticide Act (FIFRA),of the pesticide product Tree Guard, EPA Reg. No. 66676-1. This cancellation order follows a November 7, 2007. Federal Register Notice of Receipt of Request to Voluntarily Cancel a Pesticide Registration from the sole registrant at the time of products containing denatonium benzoate as the active ingredient. In the November 7, 2007 notice, EPA indicated that it would issue an order implementing the cancellation unless the Agency received substantive comments within the 30 day comment period that would merit its further review of this request, or unless the registrant withdrew their request within this period. The Agency received comments on the notice but none merited its further review of the request. Further, the registrant did not withdraw their request.

EPA is granting this request for voluntary cancellation. Any distribution, sale, or use of Tree Guard, EPA Reg. No. 66676-1 is permitted only in accordance with the terms of this order, including the existing stocks provisions. EPA has recently approved two applications for registration of substantially similar products pursuant to FIFRA section 3(c)(7)(A), and these products are subject to the same conditions described in this order. As a consequence, all pesticide products containing denatonium benzoate as an active ingredient are cancelled as of December 1, 2009.

DATES: The pesticide product Tree Guard, EPA Reg. No. 66676-1, is cancelled effective December 1, 2009.

FOR FURTHER INFORMATION CONTACT: Andrea Carone, Special Review and Reregistration Division (7508P), Office of Pesticide Programs, Environmental Protection Agency, 1200 Pennsylvania Ave., NW., Washington, DC 20460-0001; telephone number: (703) 308-0122; fax number: (703) 308-8005; e-mail address: carone.andrea@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2007-1011. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. What Action is the Agency Taking?

This notice announces the cancellation, as requested by the registrant, Becker Underwood, pursuant to section 6(f)(1) of the Federal Insecticide, Fungicide, and Rodenticide Act (FIFRA) of its product containing denatonium benzoate as an active ingredient registered under section 3 of FIFRA. The registration is listed in Table 1 of this unit.

Table 1.— Product Subject to this Cancellation Order
EPA Registration Number | Product Name
66676-1 | Tree Guard

Table 2 of this unit includes the name and address of record for the registrant of the product in Table 1 of this unit.

Table 2.—Registrant of Product Subject to this Cancellation Order
EPA Company Number | Company Name and Address
66676 | Becker Underwood, Inc. Dayton Avenue P O Box 667 Ames, Iowa 50010

On October 16, 2007, Becker Underwood requested voluntary cancellation of its pesticide product Tree Guard, EPA Reg. No. 66676-1, pursuant to section 6(f)(1) of FIFRA. On November 7, 2007, EPA published in the Federal Register a notice of receipt of this request for voluntary cancellation. At the time of its request for voluntary cancellation, Becker Underwood was the sole registrant of pesticide products containing denatonium benzoate as an active ingredient. However, since this request, two other companies have applied for registration of substantially similar products pursuant to FIFRA section 3(c)(7)(A).

The terms of Becker Underwood's voluntary cancellation are the following:

1. The total amount of Tree Guard that is distributed or sold in the United States in any given calendar year cannot exceed 300 pounds of the active ingredient denatonium benzoate;

2. The product cancellation is effective December 1, 2009;

3. Becker Underwood may sell and distribute existing stocks until December 1, 2011.

EPA has recently approved, pursuant to FIFRA section 3(c)(7)(A), registrations for products substantially similar to Tree Guard. Both of these products are subject to the same cancellation conditions applicable to Tree Guard and described above in this order. Accordingly, the following products were registered subject to the conditions that the registrations are cancelled effective December 1, 2009, and subject to an annual limit on distribution and sales of 300 lb active ingredient:

Table 3.—Other Products Subject to this Cancellation Order
Product Name and Registration Number | Company Name and Address
Deer Guard> EPA Reg. No. 84681-1 | Repel Holding, Inc. D/B/A Repel Products 1150 18th Street, NW, Ste. 1000 Washington, DC 20036
Gold, N Gro Guardian Deer Repellent EPA Reg. No. 84524-2 | Ag-Chem Consulting c/o Itronics Metallurgical, Inc.12208 Quinque Lane Clifton, VA 20124

III. Summary of Public Comments Received and Agency Response to Comments

The Agency received comments during the 30-day public comment period. The comments stated that there is a great need for deer repellent and the annual 300 lb distribution and sales limit is arbitrary and unwarranted.

The Agency appreciates the submitted comments, however the distribution and sales limit is a condition of the voluntary cancellation. For this reason, the Agency does not believe that the comments submitted during the comment period merit further review or a denial of the requests for voluntary cancellation.

IV. Cancellation Order

Pursuant to FIFRA section 6(f), EPA hereby approves the requested cancellation of Tree Guard, EPA Reg. No. 66676-1. Accordingly, the Agency orders that the registration of Tree Guard, EPA Reg. No. 66676-1, is hereby canceled effective December 1, 2009. Any distribution, sale, or use of existing stocks of Tree Guard, EPA Reg. No. 66676-1 in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

For EPA Registration No. 66676-1 sale by the registrant of existing stocks will be allowed for a period of 24 months, starting from the effective voluntary cancellation date, December 1, 2009.

List of Subjects

Environmental protection, Pesticides and pests.

Dated: May 28, 2008.
Peter Caulkins,
Acting Director, Special Review and Reregistration Division, Office of Pesticide Programs.

[FR Doc. E8-12386 Filed 6-3-08; 8:45 am]

BILLING CODE 6560-50-S